SECURITIES AND EXCHANGE COMMISSION

[File No. 500-1]

In the Matter of Winsonic Digital Media Group, Ltd.; Order of Suspension of Trading Pursuant to Section 12(K) of the Securities Exchange Act of 1934

March 24, 2015.

It appears to the Securities and Exchange Commission that there is a lack of current and accurate information concerning the securities of Winsonic Digital Media Group, Ltd. (“Winsonic”) because it has not filed any periodic reports since the period ending September 30, 2008, or any reports since June 2011.

The Commission is of the opinion that the public interest and the protection of investors require a suspension of trading in the securities of Winsonic.

Therefore, it is ordered, pursuant to Section 12(k) of the Securities Exchange Act of 1934, that trading in the securities of Winsonic is suspended for the period from 9:30 a.m. EDT on March 24, 2015, through 11:59 p.m. EDT on April 7, 2015.

By the Commission.
Jill M. Peterson,
Assistant Secretary.

[FR Doc. 2015-07040 Filed 3-24-15; 4:15 pm]

BILLING CODE 8011-01-P